FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 21, 2008.

A. Federal Reserve Bank of Chicago (Burl Thornton, Assistant Vice President) 230 South LaSalle Street, Chicago, Illinois 60690-1414:

1. Gary Shiffman, West Bloomfield, Michigan;, Arthur Weiss, Farmington Hills, Michigan; Ronald Klein, Bloomfield Hills, Michigan; Paul Hodges, Orchard Lake, Michigan; Roman Ferber, West Bloomfield, Michigan; David Freidman, West Bloomfield, Michigan; Steven Freidman, West Bloomfield, Michigan; Brian Wenzel, Howell, Michigan; Sheldon Yellen, Bloomfield Hills, Michigan; Gary Torgow, Oak Park, Michigan; Dov Loketch, Oak Park, Michigan; Joseph Nusbaum, Oak Park, Michigan; David Provost, Birmingham, Michigan; Max Berlin, Southfield, Michigan; Donald Coleman, Bonita Springs, Florida;, Albert Papa, Birmingham, Michigan;, Robert Naftaly, West Bloomfield, Michigan;, Thomas Schellenberg, Cross Village, Michigan; Thomas Brown, Farmington Hills,; Michigan; Christine Otto, Oxford, Michigan; James Dunn, Livonia, Michigan; Gary Sakwa, Bloomfield Hills, Michigan; and Frank Hennessey, Ocala, Florida; to acquire voting shares of First Michigan Bancorp, Inc., and thereby indirectly acquire voting shares of First Michigan Bank, both of Troy, Michigan.

Board of Governors of the Federal Reserve System, June 30, 2008.
Robert deV. Frierson,
Deputy Secretary of the Board.

[FR Doc. E8-15168 Filed 7-3-08; 8:45 am]

BILLING CODE 6210-01-S